DEPARTMENT OF EDUCATION

Office of Special Education and Rehabilitative Services; Grant Applications Under Part D, Subpart 2 of the Individuals With Disabilities Education Act

AGENCY: Department of Education.

ACTION: Notice inviting applications for new awards for fiscal year (FY) 2000.

SUMMARY: This notice provides closing dates and other information regarding the transmittal of applications for FY 2000 competitions under five programs authorized by the Individuals with Disabilities Education Act (IDEA), as amended. The five programs are: (1) Special Education—Research and Innovation to Improve Services and Results for Children with Disabilities (one priority); (2) Special Education—Personnel Preparation to Improve Services and Results for Children with Disabilities (four priorities); (3) Special Education—Technology and Media Services for Individuals with Disabilities (two priorities); (4) Special Education—Training and Information for Parents of Children with Disabilities (one priority); and (5) Special Education—Studies and Evaluations Program (one priority).

This notice supports the National Education Goals by helping to improve results for children with disabilities.

Waiver of Rulemaking

In most instances the Assistant Secretary is required to offer interested parties the opportunity to comment on proposed priorities. However, section 661(e)(2) of IDEA makes the Administrative Procedure Act (5 U.S.C. 553) inapplicable to the priorities in this notice.

General Requirements

(a) Projects funded under this notice must make positive efforts to employ and advance in employment qualified individuals with disabilities in project activities (see Section 606 of IDEA).

(b) Applicants and grant recipients funded under this notice must involve individuals with disabilities or parents of individuals with disabilities in planning, implementing, and evaluating the projects (see Section 661(f)(1)(A) of IDEA).

(c) Projects funded under these priorities must budget for a two-day Project Directors' meeting in Washington, DC during each year of the project.

(d) In a single application, an applicant must address only one absolute priority in this notice.

(e) Part III of each application submitted under a priority in this notice, the application narrative, is where an applicant addresses the selection criteria that are used by reviewers in evaluating the application. You must limit Part III to the equivalent of no more than the number of pages listed in the “Page Limits” section under the applicable priority in this notice using the following standards:

• A “page” is 8.5″ × 11″ (on one side only) with one-inch margins (top, bottom, and sides).

• Double-space (no more than three lines per vertical inch) all text in the application narrative, including titles, headings, footnotes, quotations, and captions, as well as all text in charts, tables, figures, and graphs.

• If using a proportional computer font, use no smaller than a 12-point font, and an average character density no greater than 18 characters per inch. If using a nonproportional font or a typewriter, do not use more than 12 characters per inch.

The page limit does not apply to Part I—the cover sheet; Part II—the budget section, including the narrative budget justification; Part IV, the assurances and certifications; or the one-page abstract, the resumes, the bibliography or references, or the letters of support. However, you must include all of the application narrative in Part III.

We will reject your application if —

• You apply these standards and exceed the page limit; or

You apply other standards and exceed the equivalent of the page limit.

Information collection resulting from this notice has been submitted to OMB for review under the Paperwork Reduction Act and has been approved under control number 1820-0028, expiration date July 31, 2000.

Research and Innovation To Improve Services and Results for Children With Disabilities [CFDA 84.324]

Purpose of Program: To produce, and advance the use of, knowledge to: (1) Improve services provided under IDEA, including the practices of professionals and others involved in providing those services to children with disabilities; and (2) Improve educational and early intervention results for infants, toddlers, and children with disabilities.

Eligible Applicants: For focus 2 eligible applicants are Local educational agencies (LEAs), or consortia of local educational agencies, and institutions of higher education (IHEs). For focus 2 eligible applicants are LEAs or IHEs or consortia of LEAs and IHEs.

Applicable Regulations: (a) The Education Department General Administrative Regulations (EDGAR) in 34 CFR parts 74, 75, 77, 80, 81, 82, 85, 97, 98, and 99; (b) The selection criteria for the priorities under this program are drawn from the EDGAR general selection criteria menu. The specific selection criteria for this priority are included in the funding application packet for this competition.

Priority

Under section 672 of the Act and 34 CFR 75.105(c)(3), we consider only applications that meet the following priority:

Absolute Priority—Model Demonstration Projects for Children With Disabilities (84.324T)

This priority supports model demonstration projects that develop, implement, evaluate, and disseminate new or improved approaches for providing special education and related services to children with disabilities. Projects supported under this priority are expected to be major contributors of models or components of models for service providers and for outreach projects funded under IDEA.

Under this absolute priority, the Assistant Secretary will fund projects only in the focus areas listed below.

Requirements for All Demonstration Projects

A model demonstration project must—

(a) Use rigorous quantitative or qualitative research and evaluation methods and data and research-based strategies and practices;

(b) Evaluate the model by using multiple measures of results to determine the effectiveness of the model and its components or strategies;

(c) Produce detailed procedures and materials that would enable others to replicate the model; and

(d) Communicate with appropriate audiences through means such as, special education technical assistance providers and disseminators, refereed journal publications and other publications, conference presentations, and a web site.

If the project maintains a web site, it must include relevant information and documents in an accessible form.

Federal financial participation for a project funded under this priority will not exceed 90 percent of the total annual costs of the project (see section 661(f)(2)(A) of IDEA).

In addition to the annual two-day Project Directors' meeting in Washington, DC mentioned in the General Requirements section of this notice, projects must budget for another annual meeting in Washington, DC to collaborate with the Federal project officer and the other projects funded under this priority, to share information and discuss model development, evaluation, and project implementation issues.

Focus 1—Model Demonstration Projects To Support Whole-School Reforms of Services for Children With Disabilities

The reauthorization of IDEA in 1997 (Public Law 105-17) encouraged “incentives for whole-school approaches and pre-referral intervention to reduce the need to label children as disabled in order to address their learning needs” (section 601(5)(F)) and authorized: (1) IDEA support for school-wide programs under Title I of the Elementary and Secondary Education Act of 1965 (section 613(a)(2)(D)); (2) Services and aids that also benefit nondisabled children (section 613(a)(4)(A)); (3) Integrated and coordinated service systems (section 613(a)(4)(B) and 613(f)); and (4) School-based improvement plans (section 613(g)).

This priority supports model projects that demonstrate how promising and proven research based practices and strategies can be used to develop whole-school approaches that benefit all students, including students with disabilities, and fully implement all other requirements of the law. For example, it is essential that students with disabilities are provided with Individualized Education Plans (IEPs) that address their unique needs and provide for the services and supports, including intensive interventions when necessary, that will optimize their achievement. Applicants must demonstrate how they will improve results for students with disabilities.

Specifically, applicants must describe activities to ensure that students with disabilities have access to and succeed in the regular curriculum; receive positive behavioral interventions, supports, and services when appropriate; and are included in State and local assessments.

Flexibility and innovation are encouraged in the design of the models, but every model must involve regular and special education staff in early childhood and prevention services; provide for parent participation; and make available a continuum of services, aids, and supports to meet the needs of students with disabilities in the least restrictive environment. It is expected that models funded under this priority will build upon other models, strategies, and practices including those supported under IDEA national activities.

Local educational agencies or consortia of LEAs or institutions of higher education are invited to apply for these grants to foster whole-school projects at (a) primary and elementary school, (b) middle and junior high school, or (c) high school levels. Applicants are encouraged to address at least two of these grade ranges, unless only one grade range is served in the LEA. Regardless of who the project applicant is, a partnership between an LEA and IHE must be demonstrated and maintained throughout the duration of the project. Applicants are required to collaborate with existing OSEP technical assistance centers and evaluation efforts throughout the course of the project.

Project Periods and Associated Funding Levels

Projects will be funded for up to 48 months. During the first two funding years, projects may request $150,000 per year. During the third and fourth years of funding, the projects may request up to $75,000 per year.

The Assistant Secretary intends to make approximately 15 awards under this priority. Each of the three grade ranges will be represented in the awards with at least three awards at each level.

Special Requirements Under This Focus Area

Applicants must specify at least one school building, at each grade range addressed in the project, that will participate in the model demonstration project throughout the duration of the grant. Further, the LEA or consortia of LEAs or IHEs must agree to share evaluation data (with protections for anonymity of subjects) on student achievement and project effectiveness with OSEP-sponsored activities, which will synthesize research and evaluation information across the grantees. In addition projects must ensure and demonstrate how they will monitor and document challenges and progress throughout the project.

Maximum Award: We will reject and will not consider an application that proposes a budget exceeding $150,000 (exclusive of any matching funds) during the first two 12-month funding periods, or proposes a budget exceeding $75,000 (exclusive of any matching funds) during the final two 12-month funding periods. The Assistant Secretary for Special Education and Rehabilitative Services may change the maximum amount through a notice published in the Federal Register.

Page Limits: The maximum page limit for this focus area is 50 double-spaced pages.

Note: Applications must meet the required page limit standards that are described in the “General Requirements” section of this notice.

Focus 2—K-3 Behavior and Reading Intervention Models

Effective strategies that intervene early in a child's development are well recognized in improving results for children with disabilities. Unfortunately, approximately sixty percent of the children currently being served under IDEA are typically identified too late to receive full benefit from those interventions. This problem is most prominent with two specific populations of children—those identified for special education and related services under the categories “emotional disturbance” (ED) and “specific learning disabilities” (LD), particularly the 80 percent of LD children who have their primary deficit in reading. These children are often not identified as being eligible for special education and related services until after their disabilities have reached severe proportions. These are children who, very early in their education, experience marked difficulties learning to read or exhibit behaviors that lead to discipline problems as they get older.

There currently exists a substantial and compelling body of research describing these children and telling us how to assess, identify, and help them. For instance, research indicates that both populations of children:

(1) Can be assessed and identified early and with relative ease and accuracy; (2) based on the nature of their disabilities, are at high risk for dropping out of school, becoming discipline problems, and failing in school; (3) often fall behind because they do not receive appropriate interventions earlier; (4) can make tremendous gains when provided with effective services during early childhood; and (5) may need individually tailored interventions because one approach may not fit all children.

A key feature of promising school-wide programs is their emphasis on the inclusion of all students in the school. Effective support for reading and behavior begins by attending to all students. Providing such support, in turn, requires understanding the range of reading difficulties and behavioral challenges students present to schools and a knowledge of the research-based strategies and practices for addressing those difficulties and challenges. To meet these varied needs, intervention systems are often organized into three groups, representing three levels of means to intervene with difficulties in reading and behavior problems:

(a) Primary prevention involves universal instruction and intervention efforts to avert the onset of problem behaviors and reading deficits such as research-based school-wide reading and behavior programs.

(b) Secondary prevention refers to strategies and procedures that address small groups of students who need additional support or assistance to successfully acquire new skills in reading and behavior.

(c) Tertiary prevention involves more intense, specialized interventions, such as one on one interventions, for individual students who despite previous efforts experience chronic problem behavior or marked difficulties in learning to read.

Although previous research and model demonstration projects have evaluated many aspects of the reading process and approaches to behavior management, model demonstration projects have not been implemented and sustained extensively in LEAs to systematically evaluate—

(a) Professional development for regular and special education teachers related to intervening early with children with marked difficulties in reading and behavior;

(b) A continuum of varied interventions for children with reading and behavior difficulties;

(c) Scaffolding or support in all curriculum areas for children in K-3 with reading and behavior difficulties while providing support for specialized or intensive interventions in reading or behavior;

(d) Continuous assessment to determine and predict progress; and

(e) Simultaneous reading and behavior interventions to target the interdependence of the two.

The purpose of this priority is to support demonstrations of school-based models of effective programs and practices to serve children grades K-3 who are identified as having a marked difficulty learning to read or who exhibit serious behaviors that lead to discipline problems as they get older.

Projects funded under this priority must:

(a) Identify students to participate who have a marked difficulty learning to read or who exhibit serious behaviors that lead to discipline problems later.

(b) Provide evidence of an existing school-wide focus that includes setting and reaching high expectations in reading or behavior and that reflects proven research-based model practices in reading or behavior for all children—

(1) For a school-wide focus on reading, projects must address, if applicable, support from Title I of the Improving America's Schools Act, the Reading Excellence Act, or other Federal or State programs by explicitly stating how those efforts will be coordinated with the activities and budgets of these projects for students with disabilities or developmental delays;

(2) For a school-wide focus on behavior, projects must include or be working toward including the following components—

(i) A mission or purpose statement;

(ii) A list of positively stated behavioral expectations or rules;

(iii) Procedures for directly teaching these expectations to students;

(iv) A continuum of strategies for encouraging these expectations;

(v) A continuum of strategies for discouraging rule violations; and

(vi) Procedures for record keeping and evaluation; and

(3) All projects must demonstrate a commitment of the faculty to address behavior or reading as a school-wide priority.

(c) Demonstrate ongoing linkages, partnerships, and collaboration between local educational agencies (LEAs) and research and training programs at institutions of higher education (IHEs) in the design, implementation and evaluation of the project.

(d) Designate an implementation coordinator and establish a committee, including the principal in each school, to support the project.

(e) Collaborate and link with OSEP supported researchers and technical assistance providers.

(f) Describe how their evaluations will address the following—

(1) Provide information about how children at highest risk are identified;

(2) Monitor each child's progress on a frequent basis, including both formative and summative evaluations;

(3) Establish criteria for a successful program; and

(4) Cooperate with the other OSEP projects and OSEP evaluation efforts throughout the project period to determine core measures and instruments to use for assessment across projects, collect data on project challenges and progress throughout the project, and comply with established data collection procedures.

(g) For reading projects—

(1) Describe the social, environmental, and cultural characteristics of each child; and

(2) Develop comprehensive case studies of each child to determine what is impacting risk, how they perform in other areas, how they performed in pre-school, characteristics related to reading (e.g., pre-reading development; language, speech and articulation; primary and secondary language).

(h) For behavior projects—

(1) Describe the social, environmental and cultural characteristics of participating groups of children or individual children; and

(2) Develop comprehensive case studies of participating groups of children or individual children to determine what is impacting risk, how they perform in other areas, how they performed in pre-school, and characteristics related to behavior.

(i) Establish a school and family link related to reading or behavior.

(j) Describe how an effective model will be sustained when the grant ends and describe how the LEA and IHEs will disseminate the model to other schools and LEAs.

(k) Describe the relationship between the size of the schools where the project will be implemented, number of target students, and amount of money requested.

Projects funded under this priority must schedule one trip, annually to Washington, DC (as specified in the “General Requirements” section of this notice), one trip, annually to Washington, DC (as specified in the “Requirements for All Demonstration Projects” section of this notice), and an additional meeting to take place by the end of the first month of the project.

The Assistant Secretary intends to make up to 5 awards under reading, 5 awards under behavior, and 4 awards under reading and behavior for this focus area. At least one award in each area will be made in high poverty rural or inner city areas based on the submission of credible information by the applicant.

Resource Packet: A resource packet providing information on research-based practices and strategies in reading and behavior is available to assist applicants in choosing research-based models and strategies to implement as part of their model programs. Applicants are encouraged to make use of this information. See the ERIC Clearinghouse web site at http://ericec.org/osep-sp.htm or call 800-328-0272 (phone/TTY).

Maximum Award: We will reject and will not consider an application that proposes a budget exceeding $130,000 for one component or $180,000 for two components (exclusive of any matching funds) for any single budget period of 12 months. The Assistant Secretary for Special Education and Rehabilitative Services may change the maximum amount through a notice published in the Federal Register.

Project Period. Up to 48 months.

Page Limits: The maximum page limits for this focus are 50 double-spaced pages for one component (reading or behavior) and 80 double-spaced pages for two components (reading and behavior).

Note: Applications must meet the required page limit standards that are described in the “General Requirements” section of this notice.

Competitive Preference

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, the Assistant Secretary can consider the applicant's past success in pursuit of this goal.

For this competitive preference, applicants can be awarded up to a total of 10 points in addition to those awarded under the published selection criteria for this priority. That is, an applicant meeting this competitive preference could earn a maximum total of 110 points.

Special Education—Personnel Preparation to Improve Services and Results for Children With Disabilities [CFDA 84.325]

Purpose of Program: The purposes of this program are to (1) help address State-identified needs for qualified personnel in special education, related services, early intervention, and regular education, to work with children with disabilities; and (2) to ensure that those personnel have the skills and knowledge, derived from practices that have been determined through research and experience to be successful, that are needed to serve those children.

Eligible Applicants: State and local educational agencies; institutions of higher education; other public agencies; private nonprofit organizations; outlying areas; freely associated States; and Indian tribes or tribal organizations.

Applicable Regulations: (a) The Education Department General Administrative Regulations (EDGAR) in 34 CFR parts 74, 75, 77, 79, 80, 81, 82, 85, 86, 97, 98, and 99; (b) The selection criteria for these priorities are drawn from the EDGAR general selection criteria menu. The specific selection criteria for these priorities are included in the funding application packet for this competition.

Note: The regulations in 34 CFR part 86 apply to institutions of higher education only.

Priority

Under section 673(d) of the Act and 34 CFR 75.105 (c)(3), we consider only those applications that meet the following priority:

Absolute Priority 1—Training Center in Early Intervention for Infants and Toddlers Who Have Visual Impairments, Including Blindness (84.325B)

Services for infants and toddlers with visual impairments, including blindness, and their families are required under Part C of IDEA. Vision specialists and orientation and mobility instructors are key personnel in providing these services.

Most training programs for vision specialists and orientation and mobility instructors focus on the development of professional skills and competencies needed to work with preschool and school-aged learners. A program of study specifically focused on the developmental, conceptual, etiological, and technological needs of infants and toddlers with visual impairments, including blindness, is needed to ensure that professionals have the skills and competencies to meet these unique needs and to assist and support families to enhance the development of their young children.

The purpose of this priority is to support the development of a Center designed to assist training institutions in building their capacity to train early intervention professionals, particularly vision specialists and orientation and mobility instructors, to provide appropriate, effective services to infants and toddlers who have visual impairments, including blindness, and to their families.

Priority

The Assistant Secretary establishes an absolute priority to support a training center to carry out a coordinated, integrated, and advanced project to develop, field-test, and disseminate empirically-based pre-service training program modules for personnel in the area of early intervention for infants and toddlers with visual impairment, including blindness, and their families. The program modules must incorporate:

(a) Relevant, research-based curricular content and pedagogical practices designed to meet the unique needs of infants and toddlers with visual impairments, including blindness, and their families in the following areas—

(1) Screening and early identification;

(2) Developmental assessment and evaluation;

(3) Development as it relates to etiological aspects of visual impairments, including blindness;

(4) Intervention practices;

(5) Concept development; and

(6) Knowledge and application of current technologies for use in enhancing growth and development.

(b) Effective practices for working with families of infants and toddlers with visual impairments, including blindness, to enhance the development of their children including—

(1) Partnering with families in Individualized Family Service Plan (IFSP) development;

(2) Working and communicating with parents of children with visual impairments, including blindness, using effective strategies for teaching adults; and

(3) Assisting and supporting families to identify their strengths, concerns, and priorities.

The Center must—

(a) Partner with Part C lead agencies; the medical community; parent training and information centers and community parent resource centers supported under Part D of IDEA; professional and advocacy organizations; IHEs, including Historically Black Colleges and Universities (HBCUs); and other agencies and organizations involved in providing services to infants and toddlers with visual impairments, including blindness, and their families, in developing and field testing its training program;

(b) Provide training and research opportunities for a limited number of graduate students;

(c) Meet with the Office of Special Education Programs (OSEP) project officer in the first three months of the project to review the proposed project activities;

(d) Prepare and disseminate the products and training modules from the Center in formats that are useful for appropriate audiences;

(e) Conduct research and development activities, using rigorous research methodologies; and

(f) Provide information through a web site. Documents must be in an accessible form.

Project Period: Under this priority, the Assistant Secretary will make one award for a cooperative agreement with a project period of up to 60 months subject to the requirements of 34 CFR 75.253(a) for continuation awards. During the second year of the project, the Assistant Secretary will determine whether to continue the Center for the fourth and fifth years of the project period and will consider in addition to the requirements of 34 CFR 75.253(a):

(a) The recommendation of a review team consisting of three experts selected by the Assistant Secretary. The services of the review team, including a two-day site visit to the project, are to be performed during the last half of the project's second year and may be included in that year's evaluation required under 34 CFR 75.590. Costs associated with the services to be performed by the review team must also be included in the project's budget for year two. These costs are estimated to be approximately $6,000;

(b) The timeliness and effectiveness with which all requirements of the negotiated cooperative agreement have been or are being met by the project; and

(c) The degree to which the project's design and technical strategies demonstrate the potential for disseminating significant new knowledge.

Competitive Preferences

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, the Assistant Secretary can consider the applicant's past success in pursuit of this goal.

For purposes of this competitive preference, applicants can be awarded up to a total of 10 points in addition to those awarded under the published selection criteria for this priority. That is, an applicant meeting this competitive preference could earn a maximum total of 110 points.

Maximum Award: We will reject and will not consider an application that proposes a budget exceeding $500,000 for any single budget period of 12 months. The Assistant Secretary for Special Education and Rehabilitative Services may change the maximum amount through a notice published in the Federal Register.

Page Limits: The maximum page limit for this priority is 70 double-spaced pages.

Note: Applications must meet the required page limit standards that are described in the “General Requirements” section of this notice.

Absolute Priority 2—Training Center in Early Intervention for Infants and Toddlers Who Have Hearing Impairments, Including Deafness (84.325C)

Background

Traditionally, university programs preparing personnel to work with hearing impaired children have trained professionals to work with the pre-school through high school population. Despite well-trained personnel in the classroom, academic achievement results for these students have been disappointing. These poor results have been attributed to the fact that, generally, the critical period for language development is from birth to three years of age. Yet, with hearing screening for newborns and infants becoming increasingly routine, hearing impairments are now being diagnosed with greater frequency during the first few months of life, rather than at age two or three, as had been the case previously. Moreover, recent advances in the technology of cochlear implants and digital hearing aids provide the potential for enhanced language development at a much earlier age.

Thus, a program of study specifically focused on the developmental, communication, conceptual, medical, and technological needs of infants and toddlers with hearing impairments, including deafness, is essential to ensure that professionals are equipped with the skills and competencies to meet these unique needs and to assist and support families to enhance the development of their child.

Priority

The Assistant Secretary establishes an absolute priority to support a training center to carry out a coordinated and integrated project that will develop, field-test, and disseminate empirically-based pre-service training program modules for students in the area of early intervention for infants and toddlers with hearing impairments, including deafness, and their families.

The model training modules must include—

(a) Relevant, research-based curricular content and pedagogical practices designed to meet the unique needs of infants and toddlers with hearing impairments, including deafness, and their families in the following areas—

(1) Developmental assessment and evaluation;

(2) Medical aspects of hearing impairments as they relate to the developmental needs;

(3) General growth and development of infants and toddlers;

(4) Concept development;

(5) The full range of communication approaches from oral and aural through American Sign Language (ASL); and

(6) Knowledge and application of current technologies for use in enhancing the growth and development of the target population, including cochlear implants and digital hearing aid technology.

(b) Effective practices for working with families of infants and toddlers with hearing impairments, including deafness, to enhance the development of their children including—

(1) Partnering with families in Individualized Family Service Plan (IFSP) development;

(2) Working and communicating with parents of children with hearing impairments including deafness using effective strategies for teaching adults; and

(3) Assisting and supporting families to identify their strengths, concerns, and priorities.

The Center must—

(a) Partner with Part C lead agencies; the medical community; parent training and information centers and community parent resource centers supported under Part D of IDEA; professional and advocacy organizations; IHEs, including HBCUs; and other agencies and organizations involved in providing services to infants and toddlers with hearing impairments, including deafness, and their families, in developing and field testing its training program;

(b) Provide training opportunities for a limited number of graduate students;

(c) Meet with the Office of Special Education Programs (OSEP) project officer in the first three months of the project to review the proposed project activities;

(d) Prepare and disseminate the products and training modules from the Center in formats that are useful for appropriate audiences;

(e) Conduct research and development activities, using rigorous research methodologies; and

(f) Provide information through a web site. Documents must be in an accessible form.

Project Period: Under this priority, the Assistant Secretary will make one award for a cooperative agreement with a project period of up to 60 months subject to the requirements of 34 CFR 75.253(a) for continuation awards. During the second year of the project, the Assistant Secretary will determine whether to continue the Center for the fourth and fifth years of the project period and will consider in addition to the requirements of 34 CFR 75.253(a):

(a) The recommendation of a review team consisting of three experts selected by the Assistant Secretary. The services of the review team, including a two-day site visit to the project, are to be performed during the last half of the project's second year and may be included in that year's evaluation required under 34 CFR 75.590. Costs associated with the services to be performed by the review team must also be included in the project's budget for year two. These costs are estimated to be approximately $6,000;

(b) The timeliness and effectiveness with which all requirements of the negotiated cooperative agreement have been or are being met by the project; and

(c) The degree to which the project's design and technical strategies demonstrate the potential for disseminating significant new knowledge.

Competitive Preferences

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, the Assistant Secretary can consider the applicant's past success in pursuit of this goal.

For purposes of this competitive preference, applicants can be awarded up to a total of 10 points in addition to those awarded under the published selection criteria for this priority. That is, an applicant meeting this competitive preference could earn a maximum total of 110 points.

Maximum Award: We will reject and will not consider an application that proposes a budget exceeding $500,000 for any single budget period of 12 months. The Assistant Secretary for Special Education and Rehabilitative Services may change the maximum amount through a notice published in the Federal Register.

Page Limits: The maximum page limit for this priority is 70 double-spaced pages.

Note: Applications must meet the required page limit standards that are described in the “General Requirements” section of this notice.

Absolute Priority 3—National IHE Faculty Enhancement Center To Improve Results for Children With Disabilities in Schools (84.325F)

Children with disabilities are, in growing numbers, joining their nondisabled peers in schools and in classrooms to receive instruction in the general education curriculum with appropriate supports and services. The intent of the standards based reform movement is for all students to have access to and to enjoy meaningful participation and progress in curricular offerings that will enable them to achieve to high standards. As schools seek to ensure appropriate access to and participation of students with disabilities in the daily life of the regular school and in the general education curriculum within the standards based reform movement, many school administrative, general instructional, and support personnel are finding themselves ill-prepared to effectively carry out their new and emerging roles and responsibilities. Unless a major initiative is mounted at the preservice training level, incoming personnel will continue to face these challenges ill-prepared.

The purpose of this priority is to support a National Center to enhance the knowledge and skills of IHE faculty in school administration, regular education teacher training (including bilingual teacher training), school counseling, and school nursing, to improve the preservice training of personnel who share responsibility with special educators for providing effective services and ensuring improved results for children with disabilities in our schools. The Center must:

(a) Identify needs. Identify knowledge and skill enhancement needs of IHE faculty in each of the targeted training programs (i.e., school administration; regular education teacher training; school counseling; and school nursing) that are most critical to ensuring that trainees in these programs are well prepared to carry out their respective roles and responsibilities in serving children with disabilities in school settings. This need identification process must be guided by a comprehensive review of the extant literature base and supplemented with methodologically sound investigative activities to enhance the current knowledge base where gaps are identified. Informants to this process should include recent program graduates and parents of children with disabilities.

(b) Identify appropriate existing resources. Identify existing resources, including those that have been developed with IDEA discretionary grant or contract support, that represent state of the art, research-based knowledge and practice that address the critical needs identified in paragraph (a) and that can be appropriately integrated into training modules under paragraph (c). Products developed by the IDEA Partnerships Technical Assistance projects currently supported by OSEP must be reviewed and considered for incorporation into proposed training modules.

(c) Develop training modules. Develop content-rich training modules that address the critical knowledge and skill enhancement needs identified in paragraph (a), that integrate existing resources identified in paragraph (b), and that are designed for ease of integration into existing curricular courses and experiential opportunities in the targeted IHE training programs. Modules must be structured to incorporate state of the art technology that will serve to enhance dissemination and use.

(d) Disseminate training modules. Develop and implement mechanisms that will result in broad, effective dissemination and use of training modules developed in paragraph (c).

(e) Conduct comprehensive evaluation. Design and conduct a comprehensive evaluation of the work, accomplishments, outcomes, impact, and effectiveness of the Center. This evaluation must be designed to provide information to guide necessary, ongoing, refinements to the structure, activities, workflow, and products that will improve the ultimate impact and effectiveness of the Center. This comprehensive evaluation must also be designed to measure the impact of this National Center on the primary goal of enhancing the knowledge and skills of IHE faculty in school administration, regular education teacher training, school counseling, and school nursing to improve the preservice training of personnel who share responsibility for providing effective services and ensuring improved results for children with disabilities in our public schools.

In designing and carrying out the required activities of this National Center, the project must collaborate with individuals and groups of individuals such as deans, IHE faculty, practicing professionals in the targeted training fields and in special education, module design technology experts, dissemination and training entities, and evaluation experts. Collaborators must include appropriate professional organizations and associations, federally supported technical assistance providers, and federally supported higher education projects, as appropriate.

In addition to the annual two-day Project Directors' meeting in Washington, DC mentioned in the “General Requirements” section of this notice, projects must budget for two additional meetings in Washington, DC to collaborate with the Federal project officer and the other projects funded under this priority, to share information and discuss model development, evaluation, and project implementation issues.

Project Period: Under this priority, the Assistant Secretary will make one award for a cooperative agreement with a project period of up to 60 months subject to the requirements of 34 CFR 75.253(a) for continuation awards. During the second year of the project, the Assistant Secretary will determine whether to continue the Center for the fourth and fifth years of the project period and will consider in addition to the requirements of 34 CFR 75.253(a):

(a) The recommendation of a review team consisting of three experts selected by the Assistant Secretary. The services of the review team, including a two-day site visit to the project, are to be performed during the last half of the project's second year and may be included in that year's evaluation required under 34 CFR 75.590. Costs associated with the services to be performed by the review team must also be included in the project's budget for year two. These costs are estimated to be approximately $6,000;

(b) The timeliness and effectiveness with which all requirements of the negotiated cooperative agreement have been or are being met by the project; and

(c) The degree to which the project's design and technical strategies demonstrate the potential for disseminating significant new knowledge.

Competitive Preferences

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, the Assistant Secretary can consider the applicant's past success in pursuit of this goal.

For purposes of this competitive preference, applicants can be awarded up to a total of 10 points in addition to those awarded under the published selection criteria for this priority. That is, an applicant meeting this competitive preference could earn a maximum total of 110 points.

Maximum Award: We will reject and will not accept an application that proposes a budget exceeding $850,000 for any single budget period of 12 months. The Assistant Secretary for Special Education and Rehabilitative Services may change the maximum amount through a notice published in the Federal Register.

Page Limits: The maximum page limit for this priority is 70 double-spaced pages.

Note: Applications must meet the required page limit standards that are described in the “General Requirements” section of this notice.

Absolute Priority 4—Center To Inform Personnel Preparation Policy and Practice in Special Education (84.325Q)

Ensuring that children with disabilities are served by an adequate number of highly qualified personnel is the cornerstone of successful implementation of the IDEA Amendments of 1997. Concerns regarding the current and future supply of quality service providers are at the forefront of the national dialogue. There is widespread agreement that ensuring an adequate supply of well-trained, highly qualified service providers into the next decade and beyond will demand informed, targeted, proactive efforts by policy makers at the National, State, and local levels. To be successful, these efforts must be guided by a knowledge base that is comprehensive, meaningful, and accessible. There is a critical need for a comprehensive, coordinated effort to accumulate the extant knowledge base and to address identified gaps in that knowledge base.

Under this priority, the Assistant Secretary will support a Center to inform personnel preparation policy and practice in special education by examining issues and recommending actions relevant to ensuring an adequate supply of well qualified personnel to serve children with disabilities. These personnel include, early interventionists, early childhood service providers, special education teachers, related service providers, regular education teachers, and paraprofessionals, as appropriate to specific priority requirements. The Center must:

(a) Conduct a comprehensive review of the extant literature base in the following areas:

(1) Licensure and certification standards and requirements for personnel serving children with disabilities. This review must include, at a minimum, available information, across all States and for each type of personnel, on:

(i) Current licensure and certification standards and requirements including alternative certification options;

(ii) Motivations for changes in, and resulting modifications to licensure standards and requirements; and

(iii) Intended vs. actual impacts of these changes on personnel quantity and quality;

(2) Pre-service preparation for personnel to serve children with disabilities. The purpose of this review is to develop a profile of the current status of training programs for all types of personnel who serve children with disabilities. This profile should be designed to provide rich descriptions of training programs at the institutional, State, and National levels. This review must include, at a minimum, available information on:

(i) Program entry mechanisms such as admissions criteria and recruitment strategies;

(ii) Program structural features such as program level (associate, undergraduate, graduate), trainee and faculty ratios, tenure track and adjunct faculty ratios, internal and external sources of support (including State support and OSEP and other Federal support), training emphasis (categorical, multi-categorical, noncategorical), and program history;

(iii) Program content features such as alignment with the principles and requirements of IDEA, alignment with current licensure and certification standards, extent to which program content reflects research-based knowledge and practice, depth and breadth of practicum opportunities, cross-disciplinary arrangements with other relevant programs (particularly regular education), and collaborative relationships with LEAs to provide induction support;

(iv) Student demographic characteristics such as age, prior training and experience, racial and cultural diversity, and disability;

(v) Program quality assurance features such as program quality indicators and procedures for assessing program quality (including on-the-job performance of program completers); and

(vi) Program outcome features such as the number of students completing the program; entrance into, and retention in, relevant positions for program completers; and the extent to which program completers assume positions in proximity to, or distant from, the training program location.

(3) Current and projected supply of, and demand for, personnel to serve children with disabilities. This review must include, at a minimum, available information, at the National, State and local level, on:

(i) The extent to which there exists, or will exist, an imbalance between available personnel and demand for personnel;

(ii) The extent to which identified supply and demand discrepancies vary by personnel type and locality; and

(iii) Factors that influence supply and demand discrepancies such as salary and wage structures, economic climate, population demographics, licensure and certification standards and requirements, and proximity to relevant training programs.

(b) Identify critical gaps in the current knowledge base and design and conduct a program of study to address these gaps. The project must identify the most critical gaps in the current knowledge base on the basis of the comprehensive review conducted in paragraph (a) and design and conduct a program of study to address the identified critical gaps. The program of study must be guided by a conceptual framework that integrates the most pressing needs for expanded knowledge and that will directly inform needed changes in policies and practices at all levels (Federal, State, and local and in institutions of higher education). The program of study must employ a rigorous research and evaluation methodology and must be reviewed and accepted by panels of content, research, and evaluation experts. Panels of experts must be identified in collaboration with OSEP staff and convened by the applicant. The program of study must be designed to enhance, not duplicate, any current research and evaluation efforts, including those supported by OSEP and other Federal agencies.

(c) Identify and disseminate policy and practice recommendations. On the basis of the comprehensive literature review conducted under paragraph (a), and the results of the program of study designed and conducted under paragraph (b), the project must identify emerging policy and practice recommendations related to: meeting current and projected demand; establishing meaningful licensure and certification standards and requirements; and providing effective training programs that produce highly qualified personnel to serve children with disabilities. Policy and practice recommendations must be reviewed and accepted by panels of experts in the identified topics. Panel members must be identified in collaboration with OSEP staff and convened by the project. Dissemination activities must be designed and carried out in collaboration with special education technical assistance providers and disseminators and with organizations and associations that represent policy maker audiences at the Federal, State, and local levels. Dissemination activities must also incorporate the use of state of the art communications technology and include information that is available and accessible through a web site. Documents must be in an accessible form.

The project must collaborate with OSEP staff in strategic planning throughout the term of the project. A face-to-face meeting must be scheduled to occur within one month of the project award date to review the proposed project activities.

In addition to the annual two-day Project Directors' meeting in Washington, DC mentioned in the “General Requirements” section of this notice, projects must budget for two additional meetings in Washington, DC to collaborate with the Federal project officer and the other projects funded under this priority, to share information and discuss model development, evaluation, and project implementation issues.

Costs associated with convening panels of experts as identified under paragraphs (b) and (c) must also be included in the project budget.

Maximum Award: We will reject and will not consider an application that proposes a budget exceeding $850,000 for any single budget period of 12 months. The Assistant Secretary for Special Education and Rehabilitative Services may change the maximum amount through a notice published in the Federal Register.

Project Period: Under this priority, the Assistant Secretary will make one award for a cooperative agreement with a project period of up to 60 months subject to the requirements of 34 CFR 75.253(a) for continuation awards. During the second year of the project, the Assistant Secretary will determine whether to continue the Center for the fourth and fifth years of the project period and will consider in addition to the requirements of 34 CFR 75.253(a):

(a) The recommendation of a review team consisting of three experts selected by the Assistant Secretary. The services of the review team, including a two-day site visit to the project, are to be performed during the last half of the project's second year and may be included in that year's evaluation required under 34 CFR 75.590. Costs associated with the services to be performed by the review team must also be included in the project's budget for year two. These costs are estimated to be approximately $6,000;

(b) The timeliness and effectiveness with which all requirements of the negotiated cooperative agreement have been or are being met by the project; and

(c) The degree to which the project's design and technical strategies result in the dissemination of significant new knowledge.

Competitive Preference

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, the Assistant Secretary can consider the applicant's past success in pursuit of this goal.

For purposes of this competitive preference, applicants can be awarded up to a total of 10 points in addition to those awarded under the published selection criteria for this priority. That is, an applicant meeting this competitive preference could earn a maximum total of 110 points.

Page Limits: The maximum page limit for this priority is 70 double-spaced pages.

Note: Applications must meet the required page limit standards that are described in the “General Requirements” section of this notice.

Technology and Media Services for Individuals With Disabilities [CFDA 84.327]

Purpose of Program: The purpose of this program is to promote the development, demonstration, utilization of technology and to support educational media activities designed to be of educational value to children with disabilities. This program also provides support for eligible captioning, video description, and cultural activities.

Applicable Regulations: (a) The Education Department General Administrative Regulations (EDGAR) in 34 CFR parts 74, 75, 77, 79, 80, 81, 82, 85, 86, 97, 98, and 99; (b) The selection criteria for the priorities under this program are drawn from the EDGAR general selection criteria menu. The specific selection criteria for each of these priorities are included in the funding application packet for the applicable competition.

Note: The regulations in 34 CFR part 86 apply to institutions of higher education only.

Eligible Applicants: State and local educational agencies; institutions of higher education; other public agencies; private nonprofit organizations; outlying areas; freely associated States; Indian tribes or tribal organizations; and for-profit organizations. Eligible applicants for Absolute Priority 2 are limited to local educational agencies as defined in IDEA (20 U.S.C. 1401).

Priority

Under section 687 of IDEA and 34 CFR 75.105(c)(3), we consider only applications that meet the following priority:

Absolute Priority 1—Research Institute on the Use of Assistive Technology In Education (CFDA 84.327G)

Background

Technology has enhanced the lives of children with disabilities by providing them with access to the classroom and to learning. The Congress recognized this in passing the IDEA Amendments of 1997, P.L. 105-17. These amendments introduced a provision requiring that teams responsible for developing an individualized education program (IEP) for a child with a disability “consider whether the child requires assistive technology devices and services.”

Section 602(1) of IDEA defines an assistive technology (AT) device as “any item, piece of equipment, or product system, whether acquired commercially off the shelf, modified, or customized, that is used to increase, maintain, or improve functional capabilities of a child with a disability.” According to Section 602(2), an AT service means, “any service that directly assists a child with a disability in the selection, acquisition, or use of an assistive technology device * * *”. The definition further describes an AT service as including such services as evaluation, purchasing, selection, coordination with other interventions, and training for the child and family as well as training or technical assistance for professionals.

Data on children's use of AT are sparse. The statistics that do exist tend to focus on AT devices that provide physical or sensory access such as hearing aids, Braille, or wheelchairs. Less is known about the use of assistive technologies that can be used to support learning needs such as word-processing software, spellcheckers, or calculators.

There is little argument that low, medium, and high technology devices can help individuals with disabilities perform functions that foster independence. Low-technology devices are simple, nonelectrical aids such as head pointers, adaptive eating utensils, or communication boards. Medium technology devices are aids that might use electricity, but are not computer driven, such as talking calculators or electronic organizers. High technology devices are computer based, such as multimedia databases or voice recognition systems.

While these devices foster access to the classroom and to learning, there also are factors that may limit their widespread use. One factor is awareness. School districts may not have access to the latest information about technology or may not know where to go to get that information. A second factor is financial. Purchasing materials requires knowledge, trained personnel, time, money, and planning. Without such elements in place students may not gain timely access to AT devices. Training is another factor, not just for the child using the technology, but for practitioners who need to understand how to use a full continuum of technology in the classroom. School districts are still learning how best to provide students with the technology they need and are seeking alternative and cost-effective means to gain access to key technologies.

Priority

The Assistant Secretary establishes an absolute priority for a research institute to study the use of AT to improve the provision of a free appropriate public education for children with disabilities.

The Institute must study a range of school districts, reflecting diverse demographics in size, locale, and socio-economic conditions. Methodologies employed by the Institute may include but need not be limited to: interviews; case studies; focus groups; reviews of records; observations; and policy analyses.

The Institute must consider what factors enhance or impede decisionmaking, planning, acquisition, maintenance, training, and instruction in the use of AT. At a minimum, the Institute must answer the following research questions:

(a) Prevalence:

What percentage of children with disabilities require various type of AT devices and services? What functions do these devices and services need to perform for the individual child?

(b) School District Policy and Resources:

What policies or guidelines and processes are in place to help the IEP team make decisions about AT devices and services? What resources are in place to finance AT devices and services (e.g., medicaid)? How do districts acquire AT? How is the technology managed and maintained?

(c) IEP Practices:

How are the individual's needs for the technology evaluated? How does the IEP team, including the student and family, determine when an AT device or service is appropriate? How is the appropriate technology selected, designed, or adapted to the individual child?

(d) Training and Support:

What training and technical assistance is available for teachers, other service providers, families, students, employers, and other appropriate individuals regarding AT? Are structures in place to promote collaboration between regular and special education teachers? What coordination is there with other agencies or service providers?

(e) Instruction:

What policies and practices are in place to support the use of AT in the learning environment? How is the technology integrated into classroom curriculum and instruction? Are evaluation measures in place to ensure that individual student's access and academic needs are being appropriately met by the technology?

(f) Student Outcomes:

How do AT devices and services affect student academic, social, and functional outcomes? How do AT devices and services affect school and classroom environments?

The Institute must design and implement a dissemination approach that promotes the use of current knowledge and ongoing research findings. This approach must:

(a) Develop links with appropriate Education Department technical assistance providers to communicate research findings and distribute products;

(b) Collaborate as appropriate with other research institutes supported under the IDEA, other experts and researchers in related subject matter and methodological fields, and other related agencies such as the National Institute on Disability and Rehabilitation Research (NIDRR) and the Rehabilitation Services Administration (RSA).

(c) Develop an accessible website to link participating school districts and to provide up-to-date information on findings;

(d) Prepare the research findings in formats that are useful for specific audiences, such as regular and special education practitioners, administrators, and policy makers;

(e) Fund at least three graduate students per year as research assistants who have concentrations in disability issues and technology;

(f) Meet with the OSEP project officer and appropriate OSEP staff in the first three months of the project to review the strategic work plan and the approach to dissemination; and

(g) Budget three trips annually to Washington, DC (two trips to meet and collaborate with U.S. Department of Education officials and one trip, as specified in the “General Requirements” for all projects section of this notice, to attend the two-day Office of Special Education Programs Project Directors' Conference).

Project Period: Under this priority, the Assistant Secretary will make one award for a cooperative agreement with a project period of up to 48 months with an option to extend the project for six months for dissemination activities subject to the requirements of 34 CFR 75.253(a) for continuation awards.

In determining whether to award the third and fourth year of the project, during the second year, the Assistant Secretary will consider in addition to the requirements of 34 CFR 75.253(a):

(a) The recommendation of a review team consisting of three experts selected by the Assistant Secretary. The services of the review team, including a two-day site visit to the project, are to be performed in the sixth month of the project's second year and may be included in that year's evaluation required under 34 CFR 75.590. Costs associated with the services to be performed by the review team must also be included in the project's budget for year two. These costs are estimated to be approximately $6,000;

(b) The timeliness and effectiveness with which all requirements of the negotiated cooperative agreement have been or are being met by the Institute; and

(c) The degree to which the Institute's design and technical strategies demonstrate the potential for disseminating significant new knowledge.

Competitive Preferences

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, the Assistant Secretary can consider the applicant's past success in pursuit of this goal.

For purposes of this competitive preference, applicants can be awarded up to a total of 10 points in addition to those awarded under the published selection criteria for this priority. That is, an applicant meeting this competitive preference could earn a maximum total of 110 points.

Maximum Award: We will reject and will not consider an application that proposes a budget exceeding $700,000 for any single budget period of 12 months. The Assistant Secretary of Special Education and Rehabilitative Services may change the maximum amount through a notice published in the Federal Register.

Page Limits: The maximum page limit for this priority is 70 double-spaced pages.

Note: Applications must meet the required page limit standards that are described in the “General Requirements” section of this notice.

Note: For further information or clarification see the World Wide Web at: http://www.air.org/TECHIDEAS

Absolute Priority 2—Technology Research-To-Practice (84.327M)

Background

A number of recent research and development efforts, many with Federal support, have focused on using technology to improve educational and early intervention results for infants, toddlers, and children with disabilities. These efforts have spanned a range of technologies, curriculum areas, student ages, and special needs. In some cases, these efforts have developed and tested new technology devices or products. Examples include devices that provide access to educational and early intervention for children with sensory or physical impairments, and instructional software for children with special learning needs. Other efforts have focused on using already-available products or technologies to meet special educational and early intervention needs. Examples include new methods for using the World Wide Web or commercially available software to address the needs of children with disabilities.

The results of these research and development efforts are not applied in practice as widely as they should be. In part, this is because the adoption of new technology approaches in education or early intervention can be a demanding process, requiring a sustained commitment from the school and district, and often requiring guidance and assistance from outside sources. The 1995 Office of Technology document entitled Teachers and Technology: Making the Connection (available on the World Wide Web at http://www.wws.princeton.edu/~ota/disk1/1995/9541.html), and Office of Special Education (OSEP) documents (available on the World Wide Web at http://www.air.org/TECHIDEAS) delineate a number of factors and approaches related to the implementation of technology in education and early intervention. Important factors include leadership and planning, access to appropriate technology, training, ongoing technical support and coaching, collaboration, and adequate teacher time. Careful consideration of factors, such as these, is essential for the sustained and effective implementation of new approaches to using technology to improve educational and early intervention results for infants, toddlers, and children with disabilities.

Priority

This priority supports local school systems or early intervention providers in implementing research-based approaches for using technology to improve educational or early intervention results for infants, toddlers, or children with disabilities. Projects must:

(a) Describe and implement an approach for using technology to improve results for one or more of the following levels: early intervention, preschool, elementary, middle school, or high school. Projects may use technology in a way that benefits children without disabilities, as long as the benefits for children with disabilities are clear and documented. The Assistant Secretary intends to fund at least two projects at each of the following levels: early intervention, preschool, elementary school, middle school, and high school;

(b) Provide credible prior research evidence of the effectiveness of the approach for improving educational and early intervention results. Some resources for identifying research-based approaches are available on the World Wide Web at http://www.air.org/TECHIDEAS. Approaches not referenced on this web site may also be used if there is research evidence of their effectiveness with infants, toddlers, or children with disabilities;

(c) Describe and carry out a process for implementing and sustaining the approach in one or more schools, including a process for continued implementation of the approach after the Federal funding awarded under this priority ends;

(d) Describe and carry out a rigorous evaluation of the effectiveness of the approach in improving educational or early intervention results for infants, toddlers, or children with disabilities;

(e) Post quarterly updates on project progress on a World Wide Web site designated by OSEP, and participate in topical discussions on the World Wide Web site; and

(f) Spend no more than 25 percent of the 36-month total of funds awarded under this priority for technology equipment and software.

Competitive Preferences

Within this absolute priority, we will give the following competitive preference under 34 CFR 75.105(c)(2)(i), to applications that are otherwise eligible for funding under this priority:

Up to ten (10) points based on the extent to which an application demonstrates that participating schools are in high poverty rural or inner city areas.

We will also give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, the Assistant Secretary can consider the applicant's past success in pursuit of this goal.

For purposes of these competitive preferences, applicants can be awarded up to a total of 20 points in addition to those awarded under the published selection criteria for this priority. That is, an applicant meeting this competitive preference could earn a maximum total of 120 points.

Project Period: 36 months.

Maximum Award: We will reject and will not consider an application that proposes a budget exceeding $170,000 for any single budget period of 12 months. The Assistant Secretary for Special Education and Rehabilitative Services may change the maximum amount through a notice published in the Federal Register.

Page Limits: The maximum page limit for this priority is 50 double-spaced pages.

Note: Applications must meet the required page limit standards that are described in the “General Requirements” section of this notice.

Special Education—Training and Information for Parents of Children With Disabilities [CFDA 84.328]

Purpose of Program: The purpose of this program is to ensure that parents of children with disabilities receive training and information to help improve results for their children.

Under section 682(e) of IDEA, the Assistant Secretary is required to: (a) Make at least one award to a parent organization in each State, unless the Assistant Secretary does not receive an application from such an organization in each State of sufficient quality to warrant approval; and (b) select among applications submitted by parent organizations in a State in a manner that ensures the most effective assistance to parents, including parents in urban and rural areas, in the State.

Eligible Applicants: Parent organizations, as defined in section 682(g) of IDEA. A parent organization is a private nonprofit organization (other than an institution of higher education) that:

(a) Has a board of directors, the parent and professional members of which are broadly representative of the population to be served and the majority of whom are parents of children with disabilities, that includes individuals with disabilities and individuals working in the fields of special education, related services, and early intervention; or

(b) Has a membership that represents the interest of individuals with disabilities and must establish a special governing board meeting the requirements for a board of directors in paragraph (a) and develops a memorandum of understanding between this special governing board and the board of directors of the organization that clearly outlines the relationship between the board and the committee and the decisionmaking responsibilities and authority of each.

Applicable Regulations: (a) The Education Department General Administrative Regulations (EDGAR) in 34 CFR parts 74, 75, 77, 79, 80, 81, 82, 85, 97, 98, and 99; (b) The selection criteria for this priority are drawn from the EDGAR general selection criteria menu. The specific selection criteria for this priority are included in the funding application packet for this competition.

Priority

Under section 682 of the Act and 34 CFR 75.105(c)(3), the Assistant Secretary gives an absolute preference to applications that meet the following priority. The Assistant Secretary funds under this competition only those applications that meet this priority:

Absolute Priority—Parent Training and Information Centers (84.328M)

Background

The IDEA Amendments of 1997 strengthen the role of parents and increase their involvement in decisions about their children's education. In order to allocate resources more equitably, create a unified system of service delivery, and provide the broadest coverage for the parents and families in every State, the Department is making awards in five (5)-year cycles for each State. In fiscal year 2000, applications for 5-year awards will be accepted for the following States: Hawaii, Idaho, Louisiana, New Hampshire, North Carolina, Oklahoma, Pennsylvania, Rhode Island, Tennessee, and West Virginia.

In addition to the above State awards, the Assistant Secretary intends to fund one award in the Virgin Islands and one award in American Samoa.

Until the first five (5)-year cycle is completed, there is a need to have an interim schedule for awards in States where there is more than one PTI and their current awards do not have the same end date. We are holding competitions for one or more awards in these States for the time periods needed to match the end date of the last Center funded.

Applications will be accepted for FY 2000 interim competitions in the State of New York. The Assistant Secretary intends to fund two awards for one year each for the following:

(a) One Center in the State of New York that will serve one or more underserved populations in a metropolitan area. This award will be for $185,000; and

(b) One Center in the State of New York that will serve a metropolitan area with an emphasis on outreach to unserved or underserved populations. This award will be for $154,800.

Priority

The Assistant Secretary proposes to establish an absolute priority to support Parent Training and Information Centers that—

(a) Provide training and information that meets the training and information needs of parents of children with disabilities in the area served by the Center, particularly underserved parents and parents of children who may be inappropriately identified, including those who are not identified at all;

(b) Assist parents to understand the availability of, and how to effectively use, procedural safeguards under IDEA, including encouraging the use, and explaining the benefits, of alternative methods of dispute resolution, such as the mediation process described in IDEA;

(c) Serve the parents of infants, toddlers, and children with the full range of disabilities;

(d) Assist parents to—

(1) Better understand the nature of their children's disabilities and their educational and developmental needs;

(2) Communicate effectively with personnel responsible for providing special education, early intervention, and related services;

(3) Participate in decisionmaking processes and the development of individualized education programs and individualized family service plans;

(4) Obtain appropriate information about the range of options, programs, services, and resources available to assist children with disabilities and their families;

(5) Understand the provisions of the Act for the education of, and the provision of early intervention services to, children with disabilities; and

(6) Participate in school reform activities;

(e) Contract with the State education agency, if the State elects to contract with the Parent Training and Information Center, for the purpose of meeting with parents who choose not to use the mediation process to encourage the use, and explain the benefits, of mediation consistent with section 615(e)(2)(B) and (D) of IDEA;

(f) Establish cooperative relations with the Community Parent Resource Center or Centers in their State in accordance with section 683(b)(3) of IDEA;

(g) Network with appropriate clearinghouses, including organizations conducting national dissemination activities under section 685(d) of IDEA, and with other national, State, and local organizations and agencies, such as protection and advocacy agencies, that serve parents and families of children with the full range of disabilities;

(h) Annually report to the Assistant Secretary on—

(1) The number of parents to whom Parent Training and Information Centers provided information and training in the most recently concluded fiscal year, and

(2) The effectiveness of strategies used to reach and serve parents, including underserved parents of children with disabilities; and

(i) If there is more than one parent center in a particular State, coordinate their activities to ensure the most effective assistance to parents in that State.

An applicant must identify the strategies it will undertake—

(a) To ensure that the needs for training and information of underserved parents of children with disabilities in the areas to be served are effectively met, particularly in underserved areas of the State; and

(b) To work with the community-based organizations, particularly in the underserved areas of the State.

A Parent Training and Information Center that receives assistance under this absolute priority may also conduct the following activities—

(a) Provide information to teachers and other professionals who provide special education and related services to children with disabilities;

(b) Assist students with disabilities to understand their rights and responsibilities on reaching the age of majority, as stated in section 615(m) of IDEA; and

(c) Assist parents of children with disabilities to be informed participants in the development and implementation of the State improvement plan under IDEA.

In addition to the annual Project Directors' meeting included in the “General Requirements” section of this notice, a project's budget must include funds to attend a regional Project Directors' meeting to be held each year of the project.

In order to demonstrate eligibility to receive a grant, an applicant must describe how its board or special governing committee meets the criteria for a parent organization in section 682(g) of IDEA. In addition, any parent organization that establishes a special governing committee under section 682(g)(2) of IDEA must demonstrate that the by-laws of its organization allows the governing committee to be responsible for operating the project (consistent with existing fiscal policies of its organization).

Current funding levels, population of school age children, and the relative proportion of children living in poverty will be considered in determining funding levels for grants.

Competitive Preferences

Within this absolute priority, we will give the following competitive preference under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, the Assistant Secretary can consider the applicant's past success in pursuit of this goal.

For purposes of this competitive preference, applicants can be awarded up to a total of 10 points in addition to those awarded under the published selection criteria for this priority. That is, an applicant meeting this competitive preference could earn a maximum total of 110 points.

Project Period: With the exception of the following, projects will be funded for a period up to 60 months. Interim projects will be funded for a period up to 12 months.

Estimated Project Awards: Project award amounts are for a single budget period of 12 months. The FY 2000 State awards, including Virgin Islands and American Samoa, and interim State awards, are listed below:

Hawaii—$160,680

Idaho—$158,780

Louisiana—$257,100

New Hampshire—$158,600

North Carolina—$311,700

Oklahoma—$198,180

Pennsylvania—$469,750

Rhode Island—$159,400

Tennessee—$279,800

West Virginia—$160,680

Virgin Islands—$107,820

American Samoa—$107,120

New York (Interim Awards)—$339,800

Page Limits: The maximum page limit for this priority is 50 double-spaced pages.

Note: Applications must meet the required page limit standards that are described in the “General Requirements” section of this notice.

Special Education Studies and Evaluations [CFDA 84.329]

Purpose of Program: To assess progress in implementing IDEA, including State and local efforts to provide free appropriate public education to children with disabilities, and early intervention services to infants and toddlers with disabilities.

Applicable Regulations: (a) The Education Department General Administrative Regulations (EDGAR) in 34 CFR parts 74, 75, 77, 79, 80, 81, 82, 85, 86, 97, 98, and 99;

(b) The selection criteria for the priority under this program are drawn from the EDGAR general selection menu. The specific selection criteria for this priority are included in the funding application packet for the applicable competition.

Note: The regulations in 34 CFR part 86 apply to institutions of higher education only.

Eligible Applicants: State and local educational agencies; institutions of higher education; other public agencies; for-profit organizations; private nonprofit organizations; outlying areas; freely associated States; and Indian tribes or tribal organizations.

Priority

Under section 674 of IDEA and 34 CFR 75.105(c)(3), we consider only applications that meet the following priority:

Absolute Priority—An Evaluation of the State Program Improvement Grant (SIG) Program (CFDA 84.329A)

Background

A new discretionary program became part of IDEA during the 1997 reauthorization. Part D, Subpart 1—State Program Improvement Grants for Children with Disabilities—was added for the purpose of assisting State educational agencies and their partners in reforming and improving their educational, early intervention, and transitional service systems, including their systems for professional development, technical assistance, and dissemination of knowledge about best practices to improve results for children with disabilities.

Beginning in FY 1999, SIGs were awarded to State educational agencies on a competitive basis for five years at amounts of $500,000 to $1,800,000 per year depending on the relative population of the States, amount of funds available, and the types of activities proposed. Specific grant activities were based on State improvement plans that were developed based on assessments of State and local needs and by authorizing legislation. Eighteen States received grant awards in FY 1999 ¹ and approximately seven additional awards will be made in FY 2000.

¹ Detailed information on the FY 1999 SIG projects is available from the Federal Resource Center web site (http:/www.dssc.org/frc/sigres.htm).

The evaluation study to be awarded under this priority will be largely formative in nature; that is, the U.S. Department of Education, Office of Special Education Programs will use the data collected in this evaluation to:

(a) Inform the reauthorization of this program in 2002;

(b) Suggest related or supportive priorities for discretionary funding;

(c) Improve future SIG competitions; and

(d) Improve SIG project management at the Federal level.

Priority

The purpose of this priority is to fund one five-year cooperative agreement that will evaluate the SIG program, as implemented by States receiving grants under this competition (CFDA 84.323A).

(a) The evaluation must provide—

(1) Information and recommendations regarding the extent to which this program is meeting, and is likely to meet in the future, three fundamental goals of the program:

(i) To implement systemic improvements in the provision of educational, early intervention, and transitional services to infants, toddlers, and children with disabilities, including systems for professional development, technical assistance, and dissemination of best practice;

(ii) To use professional development and technical assistance activities as a means to achieving systemic improvements; and

(iii) To improve results for infants, toddlers, children and youth with disabilities as an outcome of systemic change.

(2) Information on the extent to which the requirements in the Act applicable to SIGs contribute to the achievement of program goals in paragraph (1).

(b) At a minimum, this project must—

(1) Propose a design for the evaluation that includes:

(i) A description of the overall approach or type of evaluation to be conducted;

(ii) An initial set of evaluation questions based on the purposes of the evaluation as stated previously.

(iii) A matrix of potential sources of evaluation data for SIG projects receiving funds during the five-year term of this cooperative agreement, the methods of data collection, the instruments to be used, and other measurement issues related to each of the evaluation questions. Qualitative or quantitative data collection methods may be proposed; however, the methods chosen must:

(A) Allow data to be collected with precision; and

(B) Maximize validity and reliability; and

(iv) An analysis plan that outlines the type of data to be gathered and the specific analyses to be conducted, including appropriate statistical or valuational criteria to be applied to these data. The plan should also indicate how best to communicate the results of the analyses to Congress, OSEP, and other interested parties.

(2) Propose a timeline for implementing the design over the five-year project period that allows for refining the evaluation design in the first year, establishing contacts with the SIG grantees, developing and pilot testing instruments and executing the OMB forms clearance process;

(3) Propose a communication plan with OSEP that describes:

(i) Methods for providing consistent and timely updates regarding the progress of this project and for identifying any constraints or barriers that arise in implementing the final evaluation design, budget changes, preliminary findings, and reports. The communication plan should include the annual Grant Performance Report for Continuation Funding and, at minimum, one meeting annually with OSEP staff in Washington, DC (in conjunction with the meeting described in the “General Requirements” section of this notice) to discuss project implementation issues and preliminary findings. This annual meeting is in addition to the meeting described in paragraph (4);

(ii) A series of interim reports containing study findings relative to the research questions and consistent with the timeline for implementing the design. At least one of these interim reports must be developed prior to the expiration of the authorization for the SIG program in September 2002; and

(iii) A final technical report of the evaluation (due 60 months following the start date of the project) that contains, at minimum, the following sections:

(A) Executive Summary;

(B) Background information on the SIG program;

(C) Description of the evaluation study;

(D) Results;

(E) Discussion of results; and

(F) Conclusions, Recommendations, and Options.

A detailed outline of the final report shall be submitted for review by the project officer 56 months after the start date of the project. In addition, the project officer shall have an opportunity to provide input on a draft version of the final report due 57 months after the start date of the project;

(4) Meet with the OSEP project officer and other OSEP staff within three weeks of the start date for the project to review and revise, if necessary, the proposed evaluation design (including the evaluation questions and analysis plan), the timeline and communication plan. The final versions of these documents, including any changes resulting from this meeting, will be incorporated into the requirements of the cooperative agreement; and

(5) Implement the evaluation consistent with the design, timeline, and communication plan.

Project Period: Under this priority, the Assistant Secretary will make one award for a cooperative agreement with a project period of 60 months subject to the requirements of 34 CFR 75.253(a) for continuation awards.

In deciding whether to continue this project for the fourth and fifth years, the Assistant Secretary, will consider the requirements of 34 CFR 75.253(a), and in addition—

(a) The recommendation of a review team consisting of three experts selected by the Assistant Secretary. The services of the review team, including a two-day site visit to the grantee, are to be performed during the last half of the project's second year and may be included in that year's evaluation required under 34 CFR 75.590. Costs associated with the services to be performed by the review team must also be included in the project's budget for year two. These costs are estimated to be approximately $6,000;

(b) The timeliness and effectiveness with which all requirements of the negotiated cooperative agreement have been or are being met by the project; and

(c) The extent to which the project's design and methodology is likely to yield findings that may be utilized by other appropriate agencies and organizations.

Competitive Preferences

Within this absolute priority, we will give the following competitive preferences under section 606 of IDEA and 34 CFR 75.105(c)(2)(i), to applications that are otherwise eligible for funding under this priority:

Up to ten (10) points based on the effectiveness of the applicant's strategies for employing and advancing in employment qualified individuals with disabilities in project activities as required under paragraph (a) of the “General Requirements” section of this notice. In determining the effectiveness of those strategies, the Assistant Secretary can consider the applicant's success in pursuit of this goal.

Up to ten (10) points based on the extent to which the applicant can demonstrate previous success in preparing and submitting a forms clearance package for OMB approval and participating in the forms clearance process as part of a previous project funded by the Department of Education.

Within these competitive preferences, applicants can be awarded up to a total of 20 points in addition to those awarded under the published selection criteria for this priority. That is, an applicant meeting both these competitive preferences could earn a maximum total of 120 points.

Maximum Award: We will reject and will not consider an application that proposes a budget exceeding $500,000 for any single budget period of 12 months. The Assistant Secretary for Special Education and Rehabilitative Services may change the maximum amount through a notice published in the Federal Register.

Page Limits: The maximum page limit for this priority is 70 double-spaced pages.

Note: Applications must meet the required page limit standards that are described in the “General Requirements” section of this notice.

For Applications Contact: Education Publications Center (ED Pubs), P.O. Box 1398, Jessup, Maryland 20794-1398. Telephone (toll free): 1-877-4ED-Pubs (1-877-433-7827). FAX: 301-470-1244. Individuals who use a telecommunications device for the deaf (TDD) may call (toll free) 1-877-576-7734.

You may also contact Ed Pubs via its Web site (http://www.ed.gov/pubs/edpubs.html) or its E-mail address (edpubs@inet.ed.gov).

For Further Information Contact: Grants and Contracts Services Team, U.S. Department of Education, 400 Maryland Avenue, SW, room 3317, Switzer Building, Washington, DC 20202-2550. Telephone: (202) 260-9182.

If you use a TDD you may call the Federal Information Relay Service (FIRS) at 1-800-877-8339.

Individuals with disabilities may obtain this document in an alternate format (e.g., Braille, large print, audiotape, or computer diskette) on request to the contact persons listed in the preceding paragraph.

Individuals with disabilities may obtain a copy of the application package in an alternate format by contacting the Department at the address listed. However, the Department is not able to reproduce in an alternate format the standard forms included in the application package.

Intergovernmental Review

All programs in this notice (except for Research and Innovation 84.324T) are subject to the requirements of Executive Order 12372 and the regulations in 34 CFR part 79. The objective of the Executive order is to foster an intergovernmental partnership and a strengthened federalism by relying on processes developed by State and local governments for coordination and review of proposed Federal financial assistance.

In accordance with the order, we intend this document to provide early notification of the Department's specific plans and actions for those programs.

Individuals With Disabilities Education Act Application Notice for Fiscal Year 2000
CFDA No. and name | Applications available | Application deadline date | Deadline for intergovernmental review | Maximum award (per year) ¹ | Project period | Page limit ² | Estimated number of awards
84.324T Model Demonstration Projects | 05/05/00 | 06/16/00 | N/A |  | Up to 48 mos | 50 | 15
Focus Area 1: First two 12-month funding periods |  |  |  | $150,000 |  |  |
Focus Area 1: Final two 12-month funding periods |  |  |  | 75,000 |  |  |
Focus Area 2 |  |  |  | 180,000 |  | 50/80 | 14
84.325B Training Center In Early Intervention for Infants and Toddlers Who Have Visual Impairments Including Blindness | 05/05/00 | 06/16/00 | 08/15/00 | 500,000 | Up to 60 mos | 70 | 1
84.325C Training Center In Early Intervention for Infants and Toddlers Who Have Hearing Impairments Including Deafness | 05/05/00 | 06/16/00 | 08/15/00 | 500,000 | Up to 60 mos | 70 | 1
84.325F National IHE Faculty Enhancement Center to Improve Results for Children with Disabilities in School | 05/05/00 | 06/16/00 | 08/15/00 | 850,000 | Up to 60 mos | 70 | 1
84.325Q Center to Inform Personnel Preparation Policy and Practice in Special Education | 05/05/00 | 06/16/00 | 08/15/00 | 850,000 | Up to 60 mos | 70 | 1
84.327G Research Institute on the Use of Assistive Technology in Education | 05/05/00 | 06/23/00 | 08/22/00 | 700,000 | Up to 48 mos | 70 | 1
84.327M Technology Research to Practice | 05/05/00 | 06/30/00 | 08/29/00 | 170,000 | 36 months | 50 | 1
84.328M Parent Training and Information Centers | 05/05/00 | 06/23/00 | 08/22/00 |  | Up to 60 mos | 50 | 10
Hawaii |  |  |  | 160,680 |  |  |
Idaho |  |  |  | 158,780 |  |  |
Louisiana |  |  |  | 257,100 |  |  |
New Hampshire |  |  |  | 158,600 |  |  |
North Carolina |  |  |  | 311,700 |  |  |
Oklahoma |  |  |  | 198,180 |  |  |
Pennsylvania |  |  |  | 469,750 |  |  |
Rhode Island |  |  |  | 159,400 |  |  |
Tennessee |  |  |  | 279,800 |  |  |
West Virginia |  |  |  | 160,680 |  |  |
Virgin Islands |  |  |  | 107,820 |  |  |
American Samoa |  |  |  | 107,120 |  |  |
New York (Interim) |  |  |  | 339,800 | Up to 12 mos | 50 | 2
84.329A An Evaluation of the State Improvement Grant Program | 05/05/00 | 06/30/00 | 08/29/00 | 500,000 | 60 months | 70 | 1
¹ The Assistant Secretary rejects and does not consider an application that proposes a budget exceeding the amount listed for each priority for any single budget period of 12 months.
² Applicants must limit the Application Narrative, Part III of the Application, to the page limits noted above. Please refer to the “Page Limit” requirements included under each priority description and in the “General Requirements” section of this notice. The Assistant Secretary rejects and does not consider an application that does not adhere to this requirement.
Note:The Department of Education is not bound by any estimates in this notice.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Dated: April 25, 2000.
Curtis L. Richards,
Acting Assistant Secretary for Special Education and Rehabilitative Services.

[FR Doc. 00-10610 Filed 4-27-00; 8:45 am]

BILLING CODE 4000-01-P